DEPARTMENT OF HOMELAND SECURITY

Coast Guard

[USCG-2006-25924]

Navigation Safety Advisory Council

AGENCY: Coast Guard, DHS.

ACTION: Notice of meetings.

SUMMARY: The Navigation Safety Advisory Council (NAVSAC) will meet as required to discuss various issues relating to the safety of navigation. The meeting will be open to the public.

DATES: NAVSAC will meet on Tuesday, November 14, 2006, from 8:30 a.m. to 4 p.m.; Wednesday, November 15, 2006, from 8:30 a.m. to 4 p.m.; and Thursday, November 16, 2006, from 8:30 a.m. to 1 p.m. The meetings may close early if all business is finished. Written material for and requests to make oral presentations at the meeting should reach the Coast Guard on or before November 1, 2006. Requests to have a copy of your material distributed to each member of the Committee or working groups prior to the meeting should reach the Coast Guard on or before November 1, 2006.

ADDRESSES: NAVSAC will meet in the Marriott Courtyard Washington Capital Hill/Navy Yard Hotel, 140 L Street, SE., Washington, DC 20003. Send written material and requests to make oral presentations to Mr. John Bobb, Commandant (G-PWM-1), U.S. Coast Guard Headquarters, G-PW, Room 1406, 2100 Second Street, SW., Washington, DC 20593-0001. This notice and related documents are available on the Internet at http://dms.dot.gov.

FOR FURTHER INFORMATION CONTACT: Mr. John Bobb, Executive Secretary, telephone 202-372-1532, fax 202-372-1929, or e-mail at: john.k.bobb@uscg.mil.

SUPPLEMENTARY INFORMATION: Notice of these meetings is given under the Federal Advisory Committee Act, 5 U.S.C. App. 2 (Pub. L.92-463, 86 Stat. 770, as amended).

Agenda of Committee Meeting

The agenda includes the following items to be discussed:

(1) Standard Navigational Bridge Design.

(2) Offshore Renewable Energy Installations.

(3) Navigation Aid Mix.

(4) Electronic Positioning and Timing Systems.

(5) Electronic Charts.

(6) National Oceanic and Atmospheric Administration Update (Right Whale Proposed regulations).

Procedural

All meetings are open to the public. Please note that the meetings may close early if all business is finished. At the chair's discretion, members of the public may make oral presentations during the meetings. If you would like to make an oral presentation at the meeting, please notify the Executive Secretary no later than November 1, 2006. Written material for distribution at a meeting should reach the Coast Guard no later than November 1, 2006. If you would like a copy of your material distributed to each member of the Committee or Working Groups in advance of a meeting, please submit 20 copies to the Executive Secretary no later than November 1, 2006. You may also submit this material electronically to the e-mail address in FOR FURTHER INFORMATION CONTACT, no later than November 1, 2006.

Information on Services for Individuals With Disabilities

For information on facilities or services for individuals with disabilities or to request special assistance at the meetings, contact the Executive Secretary as soon as possible.

Dated: October 2, 2006.
Wayne A. Muilenburg,
Captain, U.S. Coast Guard, Acting Director of Waterways Management.

[FR Doc. E6-16667 Filed 10-6-06; 8:45 am]

BILLING CODE 4910-15-P